DEPARTMENT OF COMMERCE

International Trade Administration

[A-821-807]

Final Results of Expedited Sunset Review: Ferrovanadium and Nitrided Vanadium From Russia

AGENCY: Import Administration, International Trade Administration, Department of Commerce.

ACTION: Notice of final results of expedited sunset review: Ferrovanadium and Nitrided Vanadium from Russia.

SUMMARY: On June 5, 2000, the Department of Commerce (“the Department”) initiated a sunset review of the antidumping duty order on ferrovanadium and nitrided vanadium from Russia (65 FR 35604) pursuant to section 751(c) of the Tariff Act of 1930, as amended (“the Act”). On the basis of a notice of intent to participate and substantive comments filed on behalf of the domestic interested parties and inadequate response from respondent interested parties, Department determined to conduct an expedited sunset review. As a result of this review, the Department finds that revocation of the antidumping order would likely lead to continuation or recurrence of dumping at the levels indicated in the Final Results of Review section of this notice.

EFFECTIVE DATE: October 10, 2000.

FOR FURTHER INFORMATION CONTACT: Martha V. Douthit or James P. Maeder, Office of Policy for Import Administration, International Trade Administration, U.S. Department of Commerce, 14th Street and Constitution Avenue, NW, Washington, D.C. 20230; telephone: (202) 482-5050 or (202) 482-3330, respectively.

SUPPLEMENTARY INFORMATION:

The Applicable Statute and Regulations

This review was conducted pursuant to sections 751(c) and 752 of the Act. The Department's procedures for the conduct of sunset reviews are set forth in Procedures for Conducting Five-Year (“Sunset”) Reviews of Antidumping and Countervailing Duty Orders, 63 FR 13516 (March 20, 1998) (“Sunset Regulations”) and in 19 CFR Part 351 (2000) in general. Guidance on methodological or analytical issues relevant to the Department's conduct of sunset reviews is set forth in the Department's Policy Bulletin 98:3—Policies Regarding the Conduct of Five-Year (“Sunset”) Reviews of Antidumping and Countervailing Duty Orders; Policy Bulletin, 63 FR 18871 (April 16, 1998) (“Sunset Policy Bulletin”).

Background

On June 5, 2000, the Department initiated a sunset review of the antidumping order on ferrovanadium and nitrided vanadium from Russia (65 FR 35604), pursuant to section 751(c) of the Act. On June 20, 2000, the Department received a Notice of Intent to Participate within the deadline specified in section 351.218(d)(1)(i) of the Sunset Regulations on behalf of the Ferroalloys Association Vanadium Committee ( the “TFA Vanadium Committee”) and its members; Bear Metallurgical Corporation, Shieldalloy Metallurgical Corporation (“Shieldalloy”), Gulf Chemical and Metallurgical, Strategic Minerals Corporation, and CS Metals of Louisiana, ( collectively “the domestic interested parties”). On July 5, 2000, the Department received a complete substantive response from the domestic interested parties within the 30-day deadline specified in the Sunset Regulations under section 351.218(d)(3)(i).

The TFA Vanadium Committee claimed interested party status under 19 USC 1677(9)(E) as a trade or business association of a majority of whose members manufacture, produce, or wholesale a domestic like product in the United States. As domestic interested parties, the following members of the TFA Vanadium Committee claimed interested party status under 19 USC 1677(9)(C); Bear Metallurgical Corporation, Shieldalloy Metallurgical Corporation, Gulf Chemical and Metallurgical and Strategic Minerals Corporation.¹ In addition, they identified another member, CS Metals of Louisiana, as an interested party in this sunset review. See Domestic Interested Parties, July 5, 2000, Substantive Response at 2-3.

¹ In its substantive response the domestic interested parties note that Strategic Minerals Corporation sells domestically-produced ferrovanadium in the United States through its wholly-owned subsidiary, U.S. Vanadium Corporation.

Bear Metallurgical Corporation and Shieldalloy Metallurgical Corporation assert that they are the only U.S. manufacturers or producers of ferrovanadium. Id. at 2. Gulf Chemical and Metallurgical, and Strategic Minerals Corporation assert that they are wholesalers in the United States of domestically-produced ferrovanadium. Id. at 2.

With respect to historical participation of this order, the domestic interested parties assert that in 1994, Shieldalloy filed the petition that lead to the issuance of the antidumping duty order on ferrovanadium and nitrided vanadium from Russia. In addition, Shieldalloy actively participated in the Department's first administrative review covering the period January 4, 1995, through June 30, 1996. Id. at 4-5.

Although Shieldalloy requested an administrative review for one exporter, Galt Alloys, during the period July 1, 1996, through June 30, 1997, the review was terminated because Galt Alloys did not make sales of the subject merchandise between July 1, 1996 and June 30, 1997. Id. at 4. The domestic interested parties further assert that Shieldalloy has actively participated in all judicial appeals and remand proceedings related to this order. Id. at 5.

On July 5, 2000, the Department received a complete substantive response to the notice on initiation from respondent interested parties; Vanadium Tulachermet (“Tulachermet”) and Chusovskoy Metallurgical Works Joint Stock Company (“Chusovskoy”) (collectively “the respondent interested parties”) within the 30-day deadline specified in the Sunset Regulations under section 351.218(d)(3)(i). The respondent interested parties claimed interested party status under 19 USC 1677(9)(A) as foreign manufacturers of the subject merchandise. With respect to respondent interested parties' historical participation of the order, they assert that they participated in the original investigation by providing factors of production to the Department, although neither party was deemed an exporter. See Respondent Interested Parties, July 5, 2000, Substantive Response at 1. In the first administrative review, both Chusovskoy and Tulachermet provided information to the Department. However, in their substantive response they assert that, due to a tragic event at Chusovskoy, they were unable to complete their participation in this review. Id.

With respect to adequacy of response from respondent interested parties, the Department normally will conclude that respondent interested parties have provided adequate response to conduct a full sunset review where respondent interested parties account for more than 50 percent, by volume, of the total exports of subject merchandise to the United States. Where respondent interested parties provide inadequate responses, the Department will conduct an expedited sunset review and issue final results of review based on the facts available.

After examining respondent interested parties' import statistics, on June 26, 2000, the Department notified the U.S. International Trade Commission that respondent interested parties did not provide an adequate response in this sunset review, pursuant to section 751(c)(3)(B) of the Act, and 19 CFR 351.218(e)(1)(ii)(C)(2). Therefore, because we did not receive adequate response from respondent interested parties, we determined to conduct an expedited sunset review and to issue the final results not later than October 3, 2000.

Scope of Review

The products covered by this sunset review are ferrovanadium and nitrided vanadium, regardless of grade, chemistry, form or size, unless expressly excluded from the scope of this order. Ferrovanadium includes alloys containing ferrovanadium as the predominant element by weight (i.e., more weight than any other element, except iron in some instances) and at least 4 percent by weight of iron. Nitrided vanadium includes compounds containing vanadium as the predominant element, by weight, and at least 5 percent, by weight, of nitrogen.

Excluded from the scope of this review are vanadium additives other than ferrovanadium and nitrided vanadium, such as vanadium-aluminum master alloys, vanadium chemicals, vanadium waste and scrap, vanadium-bearing raw materials, such as slag, boiler residues, fly ash, and vanadium oxides.

The products subject to this review are currently classifiable under subheadings 2850.00.20, 7202.92.00, 7202.99.5040, 8112.40.3000, and 8112.40.6000 of the Harmonized Tariff Schedule of the United States (“HTSUS”). Although the HTSUS subheadings are provided for convenience and customs purposes, our written description of the scope is dispositive.

Analysis of Comments Received

All issues raised in these cases and rebuttal briefs by parties to this sunset review are addressed in the “Issues and Decision Memorandum” (“Decision Memo”) from Jeffrey A. May, Director, Office of Policy, Import Administration, to Troy H. Cribb, Acting Assistant Secretary for Import Administration, dated October 3, 2000, which is hereby adopted by this notice. The issues discussed in the Decision Memo include the likelihood of continuation or recurrence of dumping and the magnitude of the margin likely to prevail were the order revoked.

Parties can find a complete discussion of all issues raised in this review and the corresponding recommendations in this public memorandum, which is on file in room B-099 of the main Commerce Building. In addition, a complete version of the Decision Memo can be accessed directly on the Web at http://ia.ita.doc.gov. The paper copy and electronic version of the Decision Memo are identical in content.

Final Results of Review

As a result of this review, the Department finds that revocation of the antidumping duty order would likely lead to continuation or recurrence of dumping at the percentage weighted-average margins listed below:

Manufacturer/exporter | Margin (percent)
Galt Alloys, Inc | 3.75
Gesellschaft für Elektrometallurgie m.b.H. (and its related companies Shieldalloy Metallurgical Corporation and Metallurg, Inc.) | 11.72
Odermet | 10.10
Russia-wide Rate | 108.00

This notice serves as the only reminder to parties subject to administrative protective order (APO) of their responsibility concerning the disposition of proprietary information disclosed under APO in accordance with 19 CFR 351.305 of the Department's regulations. Timely notification of return/destruction of APO materials or conversion to judicial protective order is hereby requested. Failure to comply with the regulations and the terms of an APO is a sanctionable violation.

This five-year (“sunset”) review and notice are in accordance with sections 751(c), 752, and 777(i)(1) of the Act.

Dated: October 3, 2000.
Richard W. Moreland,
Acting Assistant Secretary for Import Administration.

[FR Doc. 00-25970 Filed 10-6-00; 8:45 am]

BILLING CODE 3510-DS-P